FEDERAL MINE SAFETY AND HEALTH REVIEW COMMISSION

Sunshine Act Meeting

May 8, 2001.

TIME AND DATE: 10 a.m., Wednesday, May 16, 2001.

PLACE: Room 6005, 6th Floor, 1730 K Street, NW., Washington, DC.

STATUS: Open.

MATTERS TO BE CONSIDERED: The Commission will consider and act upon the following:

1. Alan Good, Docket Nos. WEST 2000-44-M, etc. (Issues include whether the judge erred when he found that Alan Good violated (1) 30 CFR 56.11002 for failure to provide handrails on elevated platforms, (2) 30 CFR 56.14101(a)(3) for an inoperative parking brake on a front-end loader, and (3) 30 CFR 56.14107(a) for inadequate guards on moving machine parts).

TIME AND DATE: 2 p.m., Thursday, May 17, 2001.

PLACE: Room 6005, 6th Floor, 1730 K Street, NW., Washington, DC.

STATUS: Open.

MATTERS TO BE CONSIDERED: The Commission will consider and act upon the following:

1. Sec'y of Labor on behalf of Bernardyn v. Reading Anthracite Co., Docket Nos. PENN 99-129-D, etc. (Issues include whether substantial evidence supports the judge's finding that the operator's discharge of the complainant did not violate section 105(c) of the Mine Act).

Any person attending an open meeting who requires special accessibility features and/or auxiliary aids, such as sign language interpreters, must inform the Commission in advance of those needs. Subject to 29 CFR 2706.150(a)(3) and 2706.160(d).

CONTACT PERSON FOR MORE INFORMATION: Jean Ellen (202) 653-5629/(202) 708-9300 for TDD Relay/1-800-877-8339 for toll free.

Sandra G. Farrow,
Acting Chief Docket Clerk.

[FR Doc. 01-12195 Filed 5-10-01; 12:15 pm]

BILLING CODE 6735-01-M